DEPARTMENT OF DEFENSE

GENERAL SERVICES ADMINISTRATION

NATIONAL AERONAUTICS AND SPACE ADMINISTRATION

48 CFR Parts 4, 13, 39, 40, and 52

[FAR Case 2024-002; Docket No. 2024-0002, Sequence No. 1]

RIN 9000-AO70

Federal Acquisition Regulation: Prohibition on Unmanned Aircraft Systems From Covered Foreign Entities

AGENCY: Department of Defense (DoD), General Services Administration (GSA), and National Aeronautics and Space Administration (NASA).

ACTION: Interim rule; extension of comment period.

SUMMARY: DoD, GSA, and NASA issued an interim rule on November 12, 2024, amending the Federal Acquisition Regulation (FAR) to implement a prohibition on the procurement and operation of unmanned aircraft systems manufactured or assembled by an American Security Drone Act-covered foreign entity. The deadline for submitting comments is being extended from January 13, 2025, to January 27, 2025, to provide additional time for interested parties to provide comments on the proposed rule. The effective date of this rule is not being changed and remains November 12, 2024.

DATES: For the interim rule published on November 12, 2024, (89 FR 89464), the deadline to submit comments is extended. Submit comments by January 27, 2025.

ADDRESSES: Submit comments in response to FAC 2025-01, FAR Case 2024-002 to the Federal eRulemaking portal at https://www.regulations.gov by searching for “FAR Case 2024-002”. Select the link “Comment Now” that corresponds with “FAR Case 2024-002”. Follow the instructions provided on the “Comment Now” screen. Please include your name, company name (if any), and “FAR Case 2024-002” on your attached document. If your comment cannot be submitted using https://www.regulations.gov, call or email the points of contact in the FOR FURTHER INFORMATION CONTACT section of this document for alternate instructions.

Instructions: Please submit comments only and cite “FAR Case 2024-002” in all correspondence related to this case. Comments received generally will be posted without change to https://www.regulations.gov, including any personal and/or business confidential information provided. Public comments may be submitted as an individual, as an organization, or anonymously (see frequently asked questions at https://www.regulations.gov/faq). To confirm receipt of your comment(s), please check https://www.regulations.gov, approximately two-to-three days after submission to verify posting.

FOR FURTHER INFORMATION CONTACT: For clarification of content, contact Mr. Benjamin Collins, Procurement Analyst, at 850-826-0058 or by email at benjamin.collins@gsa.gov. For information pertaining to status, publication schedules, or alternate instructions for submitting comments if https://www.regulations.gov cannot be used, contact the Regulatory Secretariat Division at 202-501-4755 or GSARegSec@gsa.gov. Please cite FAC 2025-01, FAR Case 2024-002.

SUPPLEMENTARY INFORMATION:

I. Background

DoD, GSA, and NASA published an interim rule in the Federal Register at 89 FR 89464 on November 12, 2024. The comment period is extended to January 27, 2025, to allow additional time for interested parties to develop comments on this rule. The effective date of this rule is not being changed and remains November 12, 2024.

List of Subjects in 48 CFR Parts 4, 13, 39, 40, and 52

Government procurement.

William F. Clark,
Director, Office of Government-wide Acquisition Policy, Office of Acquisition Policy, Office of Government-wide Policy.

[FR Doc. 2024-30937 Filed 12-27-24; 8:45 am]

BILLING CODE 6820-EP-P